POSTAL SERVICE

Privacy Act of 1974; System of Records

AGENCY: Postal Service.

ACTION: Notice of proposal to consolidate two systems of records.

SUMMARY: The Postal Service, primarily for ease of reference, has determined it necessary to consolidate the descriptions of two records systems previously reported separately. The description of USPS 050.010—Finance Records, Employee Travel Records (Accounts Payable), is combined with USPS 050.060—Finance Records, Accounts Payable Files. The Postal Service has determined that the description of USPS 050.060 should be expanded in order to provide a more complete picture of the scope of the information maintained. System modifications and the two added new routine uses (3 and 4) enhance the description and permit disclosure of information about employees to the government credit card vendor and to the employee's designated financial institution.

DATES: Any interested party may submit written comments on the proposed amendments and additions. This proposal becomes effective without further notice September 23, 2002, unless comments received on or before that date result in a contrary determination.

ADDRESSES: Written comments on this proposal should be mailed or delivered to the Records Office, Room 5846, 475 L'Enfant Plaza SW., Washington, DC 20260-5846. Copies of all written comments will be available at the above address for public inspection and photocopying between 8 a.m. and 4 p.m., Monday through Friday.

FOR FURTHER INFORMATION CONTACT: Robert J. Faruq at (202) 268-2608.

SUPPLEMENTARY INFORMATION: The proposed revision to Privacy Act system of records USPS 050.060, Finance Records—Accounts Payable Files, reflects the changes in procedures and recordkeeping implemented by the Postal Service when accounts payable processing was decentralized and changes were made for reimbursing employee travel and related expenses through eTravel. The proposed revision also incorporates the implementation of the Electronic Funds Transfer (EFT) reimbursement capability for travelers. Therefore, the Postal Service is deleting from its Personal Systems of Sequential Inventory USPS 050.010, Finance Records—Employee Travel Records (Accounts Payable). Records that were subject to USPS 050.010 are covered by system of records USPS 050.060, Finance Records—Accounts Payable Files. The changes to USPS 050.060 do not alter the character or use of information contained in the system, but rather improved the system description to reflect information collection in today's environment.

Each of the proposed routine uses is compatible with the purpose for collecting the information. The purpose for collecting the information is, in part, “to reimburse employees and vendors for travel and other expenses incurred in conjunction with official business.” Because the information within this system USPS 050.060 is collected to handle reimbursement for travel and other expenses, the proposed routine uses (3 and 4) are clearly compatible with the purpose of the system.

The system modifications and additions are not expected to have any effect on individual rights because the accounts payable information pertains primarily to businesses. To the extent that information within system USPS 050.060 pertains to individuals, it relates to business transactions rather than personal matters. However, appropriate safeguards are applied to protect information. Records are kept in a secured environment, with automated data processing physical and administrative security and technical software applied to data on computer media. Paper records are kept in a secured area and made available internally on an official need-to-know basis. Contractors who maintain data collected are made subject to the subsection (m) of the Privacy Act and are required to apply appropriate protection subject to the audit and inspection of the Postal Inspection Service.

Pursuant to 5 U.S.C. 552a(e)(11), interested persons are invited to submit written data, views, or arguments on this proposal. A report of the proposed system changes has been sent to Congress and to the Office of Management and Budget for their evaluation.

USPS Privacy Act system 050.060 was last published in its entirety in the Federal Register on June 5, 1997 (62 FR 30898-30901). The Postal Service proposes amending this system as shown below.

USPS 050.060

System Name:

Finance Records—Accounts Payable Files, 050.060.

System Locations:

[Change to Read]

Post Offices, district and area finance offices, Postal Service Headquarters, imprest funds offices, personnel offices, accounting service centers, computer operations service centers, and contract travel and relocation agency offices.

Categories of Individuals Covered by the System:

[Change to Read]

Individuals or entities to whom the Postal Service makes payment(s) for materials and services received or expenses incurred in conjunction with official Postal Service business. Includes employees and officers authorized to travel, relocate, or otherwise incur expenses in performance of their official duties. Also includes persons that receive payment for indemnity claims for damage to or loss of mail, service failures, and administrative tort claims.

Categories of Records in the System:

[Change to Read]

This system is made up of hard copy and electronic records. The records include hard copies of commitment documents, purchase orders, requisitions, invoices, claims, and receipts; and computerized transaction files and databases. These records contain creditors' name, address, vendor, tax identification, or social security number (employees and officers are considered vendors); finance number, e-mail address, logon identification code, travel and relocation plans, travel expense and relocation transaction details, expense dates, descriptions of expenses incurred, amount due, payment status, and payment history. For employees and officers using the government-supplied travel card for travel and relocation expenses, certain electronic records also contain the employee or officer's credit card account number. For electronic funds transfer transactions (EFT), files also include the creditor's financial institution routing number; and for EFT payments made by the Postal Service on behalf of employees and officers, the employee or officer's account number.

Authority for Maintenance of the System:

[Change to Read]

39 U.S.C. 401, 404, 1001, 1206, 2008, and Public Law 104-134.

Purpose(s):

[Change to Read]

The records in this system support payments to Postal Service creditors. Information from these records is used to: (1) Verify that goods and services were received by the Postal Service; (2) assure that expenses incurred were properly authorized; (3) reimburse employees, officers, and vendors for travel, relocation, and other expenses incurred in conjunction with official Postal Service business; (4) generate electronic funds transfer and hard copy check payment transactions to promptly pay creditors; and (5) offset delinquent debts that certain creditors owe to the Federal Government under the Department of the Treasury Offset Program.

Routine Uses of Records Maintained in the SYstem, Including Categories of Users and Purposes of Such Uses:

General routine use statements a, b, c, d, e, f, g, h, j, k, l, and m listed in the prefatory statement at the beginning of the Postal Service's published system notices apply to this system. Other routine uses follow:

1. Disclosure of information about individuals for whom the Postal Service maintains accounts payable records may be made to the Department of the Treasury for cross-matching under its Treasury Offset Program. Disclosure will be limited to information needed to establish the identity of the individual as a delinquent debtor of another Federal agency and to offset the payment to pay the debt.

2. Disclosure of the name and address of the owner of leased property, or of the payee when different from the owner, may be made upon request.

[Add]:

3. Disclosure of the employee or officer's social security number and government-supplied credit card account number may be made to the government travel card vendor in conjunction with payment of charges for authorized expenses charged to the government-supplied travel card.

4. Disclosure of the employee or officer's account number may be made to the financial institution designated by the employee or officer when reimbursing the employee or officer for authorized travel relocation expenses not charged to government-supplied travel card.

Policies and Practices for Storing, Retrieving, Accessing, Retaining, and Disposing of Records in the System:

Storage:

[Change to Read]

Hard copy documents are retained in Post Offices, district and area finance offices, Postal Service Headquarters, imprest fund offices, personnel offices, the St. Louis and San Mateo Accounting Service Centers, and contractor travel and relocation agency offices. Electronic records related to accounts payable transactions, including incoming invoices, government-supplied travel card transactions, and electronic funds transfer and other payment records, are maintained at the San Mateo Computer Operations Service Center (COSC). The electronic databases containing employee travel reimbursement system enrollment, logon ID, and travel expense transaction records are retained at the Eagan COSC.

Retrievability:

[Change to Read]

Hard copy accounts payable records are retrieved by vendor name (including employees and officers) and identification number within processing location, transaction date, and/or batch number. Electronic records are retrieved by vendor name, identification number, credit card number, financial institution account number, transaction date, and/or batch number.

Safeguards:

[Change to Read]

Hard copy and electronic records within this system are located in buildings with controlled access. Hard copy records are stored in lockable file cabinets. Access to the buildings and to controlled areas within the buildings is restricted through use of guards and authorized badges and/or card keys and limited to persons whose duties require such access. Electronic records are protected with security software and operating system controls, including the use of logon identification codes and password firewalls that prevent unauthorized access to the private Postal Service computer network, and encryption of sensitive data elements. Information that is transmitted electronically between Postal Service facilities or between the Postal Service and external entities is also encrypted. Access is limited by these means to persons whose duties require it.

Retention and Disposal:

[Change to Read]

Note: In addition to this system of records, certain accounts payable records are duplicated in USPS Privacy Act Systems 010.030, 050.040, 150.030, 160.010, 160.020, 200.020, and 200.030, each of which has relevant retention periods established. See those systems for the retention of the records described therein.

a. Hard copies of accounts payable records, including requisitions, purchase orders, certified invoices, travel expense reports, relocation forms, and related records, are filed alphabetically by vendor name and invoice number (in the Postal Service facility where the payment transaction was processed) within batch number, and/or within accounting period. These records are retained for 3 years from the end of the fiscal year in which the expenses were paid, then shredded.

b. Hard copies of travel reimbursement system enrollment records are filed alphabetically, by employee or officer's last name, by responsible coordinator, within the Postal Service facility where the employee was enrolled into the system. These records are transferred to an inactive file when the employee or officer no longer participates in the electronic travel reimbursement system or separates from the Postal Service. The inactive records are retained until the end of the calendar year, then shredded.

c. Electronic accounts payable payment records are retained online at the San Mateo COSC for 1 year from the end of the fiscal year in which the payment was made; archived for 6 additional years, then destroyed.

d. Electronic travel reimbursement system employee and officer transaction records are retained online at the Eagan COSC for 3 years from the end of the fiscal year in which the reimbursement was claimed; archived for an additional year, then destroyed.

e. Electronic travel reimbursement system employee and officer enrollment and logon ID records are retained online at the Eagan COSC until they are cancelled or superseded, when they are transferred to an inactive file. The inactive records are retained for 3 years from the end of the calendar year in which they became inactive, then destroyed.

System Manager(s) and Addresses:

Vice President, Controller, Finance, United States Postal Service, 475 L'Enfant Plaza, SW., Washington, DC 20260-5200.

Notification Procedure:

Individuals wanting to know whether information about them is maintained in this system of records must address inquiries in writing to the system manager. Inquiries must contain the individual's name and taxpayer identification number (or social security number).

Records Access Procedures:

Requests for access must be made in accordance with the Notification Procedures above and the Postal Service Privacy Act regulations regarding access to records and verification of identity under 39 CFR 266.6.

Contesting Record Procedures:

See Notification Procedure and Records Access Procedures above.

Record SOurce Categories:

[Change to Read]

Information in this system is furnished by Postal Service creditors, employees, and officers; Postal Service financial systems; the government travel card vendor; employee-designated financial institutions; and other Federal agencies to which creditors are delinquently indebted. Some information may be duplicated in other Privacy Act systems of records including USPS 010.030, 050.040, 150.030, 160.010, 160.020, 200.020, and 200.030.

Stanley F. Mires,
Chief Counsel, Legislative.

[FR Doc. 02-20393 Filed 8-9-02; 8:45 am]

BILLING CODE 7710-12-U